DEPARTMENT OF ENERGY

Federal Energy Regulatory Commission

Combined Notice of Filings

Take notice that the Commission has received the following Natural Gas Pipeline Rate and Refund Report filings:

Docket Number: PR21-49-000.

Applicants: Black Hills Energy Arkansas, Inc.

Description: Tariff filing per 284.123(b)(2)+(g): BHEA SOC Filing to be effective 6/1/2021.

Filed Date: 6/1/2021.

Accession Number: 202106015185.

Comments Due: 5 p.m. ET 6/22/2021.

284.123(g) Protests Due: 5 p.m. ET 8/2/2021.

Docket Number: PR21-50-000.

Applicants: Gulf Coast Express Pipeline LLC.

Description: Tariff filing per 284.123(b),(e)+(g): Estimated Fuel Adjustment to be effective 6/1/2021.

Filed Date: 6/2/2021.

Accession Number: 202106025108.

Comments Due: 5 p.m. ET 6/23/2021.

284.123(g) Protests Due: 5 p.m. ET 8/2/2021.

Docket Numbers: RP21-886-000.

Applicants: Rover Pipeline LLC.

Description: § 4(d) Rate Filing: Summary of Negotiated Rate Capacity Release Agreements on 6-2-21 to be effective 6/1/2021.

Filed Date: 6/2/21.

Accession Number: 20210602-5034.

Comments Due: 5 p.m. ET 6/14/21.

Docket Numbers: RP21-890-000.

Applicants: Trailblazer Pipeline Company LLC.

Description: § 4(d) Rate Filing: TPC 2021-06-03 Negotiated Rate Agreements to be effective 6/1/2021.

Filed Date: 6/3/21.

Accession Number: 20210603-5149.

Comments Due: 5 p.m. ET 6/15/21.

Docket Numbers: RP15-904-002.

Applicants: Gas Transmission Northwest LLC.

Description: Pre-Arranged/Pre-Agreed (Amended Stipulation and Agreement of Settlement) Filing of Gas Transmission Northwest LLC.

Filed Date: 6/4/21.

Accession Number: 20210604-5180.

Comments Due: 5 p.m. ET 6/11/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2021.
Debbie-Anne A. Reese,
Deputy Secretary.

[FR Doc. 2021-12295 Filed 6-10-21; 8:45 am]

BILLING CODE 6717-01-P